NATIONAL AERONAUTICS AND SPACE ADMINISTRATION

[Notice (01-117)]

Notice of Prospective Patent License

AGENCY: National Aeronautics and Space Administration.

ACTION: Notice of Prospective Patent License.

SUMMARY: NASA hereby gives notice that Phoenix Systems International, Inc. of Pinebrook, NJ, has applied for an exclusive license to practice the invention described and claimed in U.S. Patent Number 6,039,783 entitled “Process and Equipment for Nitrogen Oxide Waste Conversion to Fertilizer,” which is assigned to the United States of America as represented by the Administrator of the National Aeronautics and Space Administration. Written objections to the prospective grant of a license should be sent to Mr. Randy Heald, Assistant Chief Counsel/Patent Counsel, John F. Kennedy Space Center, Kennedy Space Center, FL 32899.

DATE(S): Responses to this notice must be received within 15 days from date of publication in the Federal Register.

FOR FURTHER INFORMATION CONTACT: Mr. Randy Heald, Assistant Chief Counsel/Patent Counsel, Office of Chief Counsel, John F. Kennedy Space Center, Mail Code: CC-A, Kennedy Space Center, FL 32899. Telephone (321) 867-7214, e-mail: Randall.Heald-1@ksc.nasa.gov.

Dated: September 25, 2001.
Edward A. Frankle,
General Counsel.

[FR Doc. 01-24532 Filed 10-1-01; 8:45 am]

BILLING CODE 7510-01-P